ENVIRONMENTAL PROTECTION AGENCY

[FRL-9932-91-Region 10]

Final National Pollutant Discharge Elimination System (NPDES) General Permit for Stormwater Discharges from Industrial Activities Availability for Idaho, Federal Operators in Washington, and the Spokane Tribe

AGENCY: Environmental Protection Agency (EPA).

ACTION: Notice of corrections to the 2015 Multi-Sector General Permit.

SUMMARY: The Environmental Protection Agency (EPA) previously announced the issuance of the NPDES general permit for storm water discharges from industrial activity, also referred to as the 2015 Multi-Sector General Permit (2015 MSGP), in the June 16, 2015 Federal Register. This action provides notice of final 2015 MSGP issuance for Idaho; federal operators in Washington; and the Spokane Tribe.

DATES: The 2015 MSGP became effective in Idaho on August 12, 2015; for federal operators in Washington on July 21, 2015; and for the Spokane Tribe on August 12, 2015. These effective dates provide dischargers with the immediate opportunity to comply with Clean Water Act requirements in light of the expiration of the 2008 MSGP on September 29, 2013. The 2015 MSGP and the authorization to discharge will expire everywhere at midnight on June 4, 2019. Within 90 days of the permit's date of issuance, operators of existing facilities must submit an NOI for coverage under the new permit. Therefore, for existing facilities located in areas in the State of Idaho (except for Indian country) NOIs must be submitted by no later than November 10, 2015. For existing facilities in the State of Washington operated by or at the behest of a Federal Operator, NOIs must be submitted by no later than October 19, 2015.

In accordance with 40 CFR part 23, this permit shall be considered issued for the purpose of judicial review on the date of this publication. Under section 509(b) of the Clean Water Act, judicial review of this general permit can be had by filing a petition for review in the United States Court of Appeals within 120 days after the permit is considered issued for purposes of judicial review. Under section 509(b)(2) of the Clean Water Act, the requirements in this permit may not be challenged later in civil or criminal proceedings to enforce these requirements. In addition, this permit may not be challenged in other agency proceedings. Deadlines for submittal of notices of intent for projects located in the areas listed above are provided as part of this action.

FOR FURTHER INFORMATION CONTACT: For further information on the MSGP, contact the appropriate EPA Regional office listed in Section I.C, or you can send an email to msgp@epa.gov. You may also contact Bryan Rittenhouse, EPA Headquarters, Office of Water, Office of Wastewater Management at 202-564-0577 or rittenhouse.bryan@epa.gov.

SUPPLEMENTARY INFORMATION: This supplementary information is organized as follows:

Table of Contents

I. General Information

A. Does this action apply to me?

B. How can I get copies of these documents and other related information?

C. Who are the EPA regional contacts for this permit?

II. Summary of Permit Actions

A. Issuance of 2015 MSGP for Additional States and Tribes

III. Compliance with Other Statutes

I. General Information

EPA summarized the MSGP permit conditions, as well as changes from the previous version of the MSGP, in the Federal Register notice at 80 FR 34403, June 16, 2015.

A. Does this action apply to me?

The final 2015 construction general permit (also referred to as “MSGP” or “2015 MSGP”) applies to the following industrial activities:

Sector A—Timber Products.

Sector B—Paper and Allied Products Manufacturing.

Sector C—Chemical and Allied Products Manufacturing.

Sector D—Asphalt Paving and Roofing Materials Manufactures and Lubricant Manufacturers.

Sector E—Glass, Clay, Cement, Concrete, and Gypsum Product Manufacturing.

Sector F—Primary Metals.

Sector G—Metal Mining (Ore Mining and Dressing).

Sector H—Coal Mines and Coal Mining-Related Facilities.

Sector I—Oil and Gas Extraction.

Sector J—Mineral Mining and Dressing.

Sector K—Hazardous Waste Treatment Storage or Disposal.

Sector L—Landfills and Land Application Sites.

Sector M—Automobile Salvage Yards.

Sector N—Scrap Recycling Facilities.

Sector O—Steam Electric Generating Facilities.

Sector P—Land Transportation.

Sector Q—Water Transportation.

Sector R—Ship and Boat Building or Repairing Yards.

Sector S—Air Transportation Facilities.

Sector T—Treatment Works.

Sector U—Food and Kindred Products.

Sector V—Textile Mills, Apparel, and other Fabric Products Manufacturing.

Sector W—Furniture and Fixtures.

Sector X—Printing and Publishing.

Sector Y—Rubber, Miscellaneous Plastic Products, and Miscellaneous Manufacturing Industries.

Sector Z—Leather Tanning and Finishing.

Sector AA—Fabricated Metal Products.

Sector AB—Transportation Equipment, Industrial or Commercial Machinery.

Sector AC—Electronic, Electrical, Photographic and Optical Goods.

Sector AD—Reserved for Facilities Not Covered Under Other Sectors and Designated by the Director.

If you have questions regarding the applicability of this action to a particular entity, consult one of the persons listed for technical information in the preceding FOR FURTHER INFORMATION CONTACT section.

B. How can I get copies of these documents and other related information?

1. Docket. EPA has established an official public docket for this action under Docket ID Number EPA-HQ-OW-2012-0803. The official public docket is the collection of materials that is available for public viewing at the Water Docket in the EPA Docket Center, (EPA/DC) EPA West, Room 3334, 1301 Constitution Ave. NW., Washington, DC 20460. Although all documents in the docket are listed in an index, some information is not publicly available, i.e., Confidential Business Information (CBI) or other information whose disclosure is restricted by statute. Publicly available docket materials are available in hard copy at the EPA Docket Center Public Reading Room, open from 8:30 a.m. to 4:30 p.m., Monday through Friday, excluding legal holidays. The telephone number for the Public Reading Room is (202) 566-1744 and the telephone number for the Water Docket is (202) 566-2426.

2. Electronic Access. You may access this Federal Register document electronically through the United States government on-line source for Federal regulations at http://www.regulations.gov.

Electronic versions of this final permit and fact sheet are available on EPA's NPDES Web site at http://water.epa.gov/polwaste/npdes/stormwater/EPA-Multi-Sector-General-Permit-MSGP.cfm.

An electronic version of the public docket is available through the EPA's electronic public docket and comment system, EPA Dockets. You may use EPA Dockets at http://www.regulations.gov to submit or view public comments, access the index listing of the contents of the official public docket, and to access those documents in the public docket that are available electronically. For additional information about EPA's public docket, visit the EPA Docket Center homepage at http://www.epa.gov/dockets. Although not all docket materials may be available electronically, you may still access any of the publicly available docket materials through the Docket Facility identified in Section I.B.1.

C. Who are the EPA regional contacts for this permit?

For EPA Region 10, contact Margaret McCauley at tel.: (206) 553-1772 or email at mccauley.margaret@epa.gov.

II. Summary of Permit Actions

A. Issuance of 2015 MSGP for Additional States and Tribes

On June 4, 2015, EPA issued the 2015 MSGP for most of the areas where EPA is the permitting authority. Because EPA had not yet received Clean Water Act Section 401 certifications from certain states and tribes, EPA was not able to issue the final MSGP in these areas. The following states and tribe were affected:

• The State of Idaho;

• Federal operators in Washington;

• The Spokane Tribe.

Now that EPA has received the required Clean Water Act 401 certifications, the Agency has issued the final 2015 MSGP for these areas. Pursuant to CWA section 401(d), the limitations and requirements contained in these certifications are now conditions of the 2015 MSGP and are included in Part 9.10.3, 9.10.6.7, and 9.10.7 of the permit.

The complete text of the updated 2015 MSGP as well as additional information on Webcasts, Guidance, and Other Implementation Assistance can be obtained through EPA's Web site at http://water.epa.gov/polwaste/npdes/stormwater/EPA-Multi-Sector-General-Permit-MSGP.cfm.

III. Compliance With Other Statutes

EPA summarized the Agency's compliance with the National Environmental Policy Act (NEPA), Executive Orders 12866 and 13563, Executive Order 12898, and Executive Order 13175 in the 80 FR 304403, June 16, 2015 Federal Register notice. See 77 FR 12292-12293, February 29, 2012, for more information.

Authority: Clean Water Act, 33 U.S.C. 1251 et seq.

Dated: August 12, 2015.
Daniel D. Opalski,
Director, Office of Water and Watersheds, EPA Region 10.

[FR Doc. 2015-20725 Filed 8-20-15; 8:45 am]

BILLING CODE 6560-50-P